DEPARTMENT OF COMMERCE

International Trade Administration

[A-583-856]

Certain Corrosion-Resistant Steel Products From Taiwan: Postponement of Final Determination of Sales at Less Than Fair Value

AGENCY: Enforcement and Compliance, International Trade Administration, Department of Commerce.

SUMMARY: The Department of Commerce (“Department”) is postponing the deadline for issuing the final determination in the less-than-fair-value (“LTFV”) investigation of certain corrosion-resistant steel products (“corrosion-resistant steel”) from Taiwan.

DATES: Effective Date: January 26, 2016.

FOR FURTHER INFORMATION CONTACT: Andrew Medley at (202) 482-4987, Antidumping and Countervailing Duty Operations, Enforcement and Compliance, International Trade Administration, U.S. Department of Commerce, 14th Street and Constitution Avenue NW., Washington, DC 20230.

SUPPLEMENTARY INFORMATION: On June 30, 2015, the Department published a notice of initiation of the LTFV investigations of certain corrosion-resistant steel from Italy, India, the People's Republic of China, Korea, and Taiwan.¹ The period of investigation is April 1, 2014, through March 31, 2015. On January 4, 2016, the Department published its negative Preliminary Determination in the LTFV investigation of corrosion-resistant steel from Taiwan.² On December 28, 2015, AK Steel Corporation, with the concurrence of ArcelorMittal USA LLC, Nucor Corporation, Steel Dynamics Inc., California Steel Industries, and United States Steel Corporation (collectively “Petitioners”), requested that the Department postpone its final determination to align with the deadlines of the other investigations of corrosion-resistant steel from the People's Republic of China, India, Italy, and Korea.³

¹ See Certain Corrosion-Resistant Steel Products From Italy, India, the People's Republic of China, the Republic of Korea, and Taiwan: Initiation of Less-Than-Fair-Value Investigations, 80 FR 37228 (June 30, 2015).

² See Certain Corrosion-Resistant Steel Products from Taiwan: Negative Preliminary Determination of Sales at Less Than Fair Value, 81 FR 72 (January 4, 2016), and accompanying Preliminary Decision Memorandum (“Preliminary Determination”).

³ See the letter from AK Steel Corporation entitled, “Certain Corrosion-Resistant Steel Products From Taiwan: Request For Postponement Of The Final Determination,” dated December 28, 2015.

Postponement of Final Determination

Section 735(a)(2)(B) of the Tariff Act of 1930, as amended (“the Act”), and 19 CFR 351.210(b)(2)(i), provide that a final determination may be postponed until not later than 135 days after the date of the publication of the preliminary determination if, in the event of a negative preliminary determination, a request for such postponement is made by the petitioner. In accordance with section 735(a)(2)(B) of the Act and 19 CFR 351.210(b)(2)(i), because (1) our preliminary determination was negative; (2) the request was made by Petitioners; and (3) no compelling reasons for denial exist, we are postponing the final determination until no later than 135 days after the publication of the Preliminary Determination (i.e., to May 18, 2016), in alignment with the deadlines of the other investigations of corrosion-resistant steel from the People's Republic of China, India, Italy, and Korea.⁴ Accordingly, we will issue our final determination no later than 135 days after the date of publication of the Preliminary Determination.

⁴ See, e.g., Certain Corrosion-Resistant Steel Products From Italy: Preliminary Affirmative Determination of Sales at Less Than Fair Value and Postponement of Final Determination, 81 FR 69 (January 4, 2016), and accompanying Preliminary Decision Memorandum.

This notice is issued and published pursuant to section 735(a)(2)(B) of the Act and 19 CFR 351.210(g).

Dated: January 13, 2016.
Paul Piquado,
Assistant Secretary for Enforcement and Compliance.

[FR Doc. 2016-01566 Filed 1-25-16; 8:45 am]

BILLING CODE 3510-DS-P